DEPARTMENT OF AGRICULTURE

Farm Service Agency

Alaska Dairy Fund

AGENCY: Farm Service Agency, USDA.

ACTION: Notice of Funds Availability (NOFA).

SUMMARY: This Notice announces the availability of funds to be applied to accounts of Alaska dairy farmers. As provided by the Emergency Supplemental Appropriations Act for Defense, the Global War on Terror, and Tsunami Relief, 2005 (2005 Emergency Supplemental Act) (Pub. L. 109-13) $1 million made available by section 786 of the Agriculture, Rural Development, Food and Drug Administration and Related Agencies Appropriations (2005 Appropriations Act)(Pub. L. 108-447) may be applied to accounts of Alaska dairy farmers owed to the Secretary.

FOR FURTHER INFORMATION CONTACT: Michael Cumpton, Senior Loan Officer, USDA/FSA/DAFLP/STOP 0523, 1400 Independence Avenue, SW., Washington, DC 20250-0523; telephone (202) 690-4014; facsimile (202) 690-0949; electronic mail: mike.cumpton@wdc.usda.gov.

SUPPLEMENTARY INFORMATION:

General Information

Section 751 of the Agriculture, Rural Development, Food and Drug Administration and Related Agencies Appropriation Act, 2003 (Pub. L. 108-7), enacted February 20, 2003, authorized loans and grants to expand the State of Alaska's dairy industry and related milk processing and packaging facilities in Fiscal Years 2003 through 2007. Section 786 of the 2005 Appropriations Act enacted December 8, 2004, appropriated $1 million for that purpose. Section 5104 of the 2005 Emergency Supplemental Act enacted May 11, 2005, authorized the Agency to apply those funds to the accounts of Alaska dairy farmers owed to the Secretary of Agriculture.

This notice announces that the Farm Service Agency (FSA) is making $1 million available to established dairy farms in Alaska currently indebted on FSA Farm Loan Programs (FLP) loans that have been in continuous commercial milk production for at least the last three full calendar years and continued to produce milk to sell commercially on May 11, 2005 (the date of enactment of the authorizing legislation). The funds will be distributed pro rata based on the total production of each operation over the last three calendar years.

These funds will be applied to eligible borrower accounts without execution of additional debt or security instruments.

I. Definitions

Agency or FSA is the Farm Service Agency, its employees, and any successor agency.

Entity is a corporation, partnership, joint operation, trust, limited liability company, or cooperative.

Eligible farmer is an individual or entity who is an established dairy farmer in the State of Alaska and is indebted to the Secretary of Agriculture through the Farm Loan Programs of the Farm Service Agency.

Established dairy farmer is an individual or entity who has been continuously producing and selling milk commercially for three or more calendar years (including 2002-2004) and continued to produce milk to sell commercially on May 11, 2005.

II. Eligibility Requirement

Recipients must be eligible farmers as defined above.

III. Notification of Eligible Farmers

(a) Within 10 days after publication of this notice, the Agency will request, by first class mail, and in person or by phone, that eligible farmers execute:

(1) A consent to the release of information (unless the Agency already has such a consent) for the Agency to obtain from commercial milk buyers the eligible farmer's production for the past three full calendar years (2002, 2003, and 2004), and

(2) The Alaska Dairy Fund Certification (ADFC), contained in Exhibit 1 of this notice, certifying that they:

(i) Meet the definition of an established dairy farmer;

(ii) Agree to accept the funds; and

(iii) Are aware of possible future tax consequences of accepting the funds.

(b) Eligible farmers who do not execute and deliver to FSA the consent (unless there is already a release on file) and the ADFC within 30 days of notification by the Agency will not be included in the calculations or distribution of funds.

IV. Distribution of Funds

Funds will be distributed among eligible farmers based on their proportion of total milk production sold commercially by all eligible farmers during the three full calendar years 2002, 2003, and 2004. Payments will be limited to the amount of the borrower's FLP debt.

The following example, using three farms, illustrates the payment calculation process:

Example:

| cwt.
Total Three Year Production:
Eligible Farmer #1 | 150,000
Eligible Farmer #2 | 90,000
Eligible Farmer #3 | 40,000
Total Production | 280,000
Percentage of Total Production:
Eligible Farmer #1 | 150,000 / 280,000 = 53.57%
Eligible Farmer #2 | 90,000 / 280,000 = 32.14%
Eligible Farmer #3 | 40,000 / 280,000 = 14.29%
| 100%
Payment:
Eligible Farmer #1 | 53.57% × 1,000,000 = $535,700
Eligible Farmer #2 | 32.14% × 1,000,000 = $321,400
Eligible Farmer #3 | 14.29% × 1,000,000 = $142,900
| $1,000,000

If the calculations show that a farmer's payment would be greater than the farmer's FLP debt, the payment will be set equal to the debt and the excess entered into new calculations as shown above, but excluding that farmer, to be distributed among the remaining eligible farmers.

V. Processing and Application of Funds

(a) When all production amounts have been obtained, the State Executive Director (SED), Alaska, with concurrence of the Deputy Administrator for Farm Loan Programs, will make the calculations required by this Notice. Exhibit 2 will then be used to notify the borrowers of:

(i) Their total production reported to the Agency;

(ii) The total projected amount that they are to receive;

(iii) That 80 percent of the total projected amount they are to receive will be applied to their accounts immediately; and

(iv) Their right to appeal to the National Appeals Division, USDA.

(b) After the exhaustion of all appeal rights, the State Executive Director (SED), Alaska, with concurrence of the Deputy Administrator for Farm Loan Programs, will make any additional calculations required and notify the eligible farmer and the Agency's Finance Office of the remaining amount that will be applied to their account.

(c) The Agency's Finance Office will apply the funds first to any eligible farmer's FSA FLP delinquency and then as extra payments according to 7 CFR part 1951, subpart A.

(d) The record of SED calculations will be retained and filed in the State Office.

Paperwork Reduction Act

A request for clearance of the information collections associated with this notice has not been submitted to the Office of Management and Budget (OMB) under 5 CFR 1320.3(c) because the collection of information required for the disbursal of the funds will affect less than ten persons.

Environmental Compliance

The environmental impacts of this notice have been considered in accordance with the provisions of the National Environmental Policy Act of 1969 (NEPA), 42 U.S.C. 4321 et seq., the regulations of the Council on Environmental Quality (40 CFR parts 1500-1508), and the FSA regulations for compliance with NEPA, 7 CFR parts 799, and 1940, subpart G. FSA completed an environmental evaluation and concluded the notice requires no further environmental review as funds will be applied against existing debt and no additional funds are being advanced for production or expansion. No extraordinary circumstances or other unforeseeable factors exist which would require preparation of an environmental assessment or environmental impact statement. A copy of the environmental evaluation is available for inspection and review upon request.

Signed at Washington, DC, on June 30, 2005.
James R. Little,
Administrator, Farm Service Agency.

Exhibit 1—Alaska Dairy Fund Certification

I _____ hereby certify that I (or my entity which I have the authority to represent) meet the definition of an eligible farmer, as shown below, and will accept proceeds made available by the Emergency Supplemental Appropriations Act for Defense, the Global War on Terror, and Tsunami Relief, 2005, according to FSA calculations up to the total amount of my FSA Farm Loan Programs debt:

Definitions:

Eligible farmer is an individual or entity who is an established dairy farmer in the State of Alaska and is indebted to the Secretary of Agriculture through the Farm Loan Programs of the Farm Service Agency.

Established dairy farmer is an individual or entity who has been continuously producing and selling milk commercially for three or more full calendar years (including 2002-2004) and continued to produce milk to sell commercially on May 11, 2005.

I further certify that I am aware that there could be tax consequences if I accept these funds and may consult a tax professional or the IRS if I have any questions regarding these consequences.

Signature

Signature

Exhibit 2—Notification of 2005 Alaska Dairy Fund Production Records

Dear (Borrower's Name): Pursuant to Section 5104 of the Emergency Supplemental Appropriations Act for Defense, the Global War on Terror, and Tsunami Relief, 2005 (Pub. L. 109-13), and the Notice of Funding Availability implementing that law, the Farm Service Agency has determined the distribution of funds from the Alaska Dairy Fund.

All records available to the FSA indicate that your milk production sold commercially from January 1, 2002 to December 31, 2004 was ____. Using this as a basis for calculation, your share of the 2005 Alaska Dairy fund would be approximately $____. This is an estimated projection only. Any correction in the production amounts used for receipt of these funds could change this amount. Therefore, at this time, 80 percent of this amount, or $____, will immediately be applied to your FSA Farm Loan Program account.

You have 30 days from receipt of this notice to appeal if you believe that FSA's decision is incorrect. Information on how to appeal is included with this notification. At the conclusion of the appeal period for all eligible farmers, the remaining balance, as calculated by FSA, will be applied to your account.

Funds first will be applied toward any FLP delinquency and then as an extra payment on your account. Please consult with your FSA Office regarding any changes to your future payment schedule.

If you have any questions, please contact the Alaska State FSA Office at (907)761-7738.

Sincerely,

State Executive Director

Alaska Farm Service Agency

[FR Doc. 05-13751 Filed 7-12-05; 8:45 am]

BILLING CODE 3410-05-P